INTERNATIONAL TRADE COMMISSION

Sunshine Act Meeting

TIME AND DATE: October 16, 2000 at 11 a.m.

PLACE: Room 101, 500 E Street SW., Washington, DC 20436, Telephone: (202) 205-2000.

STATUS: Open to the public.

MATTERS TO BE CONSIDERED:

1. Agenda for future meeting: none.

2. Minutes.

3. Ratification List.

4. Inv. Nos. 731-TA-474-475 (Review) (Chrome-Plated Lug Nuts from China and Taiwan)—briefing and vote. (The Commission is currently scheduled to transmit its determination and Commissioners' opinions to the Secretary of Commerce on October 25, 2000.)

5. Outstanding action jackets:

(1.) Document No. GC-00-070: Approval of final disposition of investigation in Inv. No. 337-TA-395 (Certain EPROM, EEPROM, Flash Memory, and Flash Microcontroller Semiconductor Devices and Products Containing Same).

(2.) Document No. GC-00-071: Administrative matters.

In accordance with Commission policy, subject matter listed above, not disposed of at the scheduled meeting, may be carried over to the agenda of the following meeting.

Issued: October 4, 2000.
By order of the Commission.
Donna R. Koehnke,
Secretary.

[FR Doc. 00-26018 Filed 10-5-00; 11:04 am]

BILLING CODE 7020-02-U